DEPARTMENT OF ENERGY

Federal Energy Regulatory Commission

Combined Notice of Filings # 1

Take notice that the Commission received the following electric rate filings:

Docket Numbers: ER10-1851-003; ER10-1976-004; ER10-1966-004; ER10-1985-004; ER11-4462-006; ER10-1971-013; ER10-1930-003; ER10-1931-004; ER12-2225-003; ER12-2226-003.

Applicants: ESI Vansycle Partners, L.P., FPL Energy Stateline II, Inc., FPL Energy Vansycle, L.L.C., Limon Wind, LLC, Limon Wind II, LLC, Logan Wind Energy LLC, Northern Colorado Wind Energy, LLC, Peetz Table Wind Energy, LLC, NextEra Energy Power Marketing, LLC, NEPM II, LLC.

Description: Triennial Market Power Update for Northwest Region of the NextEra Companies.

Filed Date: 12/23/13.

Accession Number: 20131223-5276.

Comments Due: 5 p.m. ET 2/21/14.

Docket Numbers:ER10-1910-004; ER10-1908-004; ER10-1909-004; ER10-1911-004.

Applicants: Duquesne Conemaugh LLC, Duquesne Keystone LLC, Duquesne Light Company, Duquesne Power, LLC.

Description: Notice of Non-Material Change in Status of the Duquesne Utilities.

Filed Date: 12/27/13.

Accession Number: 20131227-5155.

Comments Due: 5 p.m. ET 1/17/14.

Docket Numbers: ER10-2132-005.

Applicants: Willow Creek Energy LLC.

Description: Triennial Report for Northwest Region Willow Creek Energy LLC.

Filed Date: 12/30/13.

Accession Number: 20131230-5035.

Comments Due: 5 p.m. ET 2/28/14.

Docket Numbers:ER10-2763-009; ER10-2759-003; ER10-2732-009; ER10-2736-009; ER10-2737-009; ER10-2741-009; ER10-2749-009; ER10-2752-009; ER12-2492-005; ER12-2493-005; ER12-2494-005; ER12-2495-005; ER12-2496-005; ER10-2733-009; ER10-2734-009; ER10-2631-003; ER13-815-001.

Applicants: Bangor Hydro Electric Company, Bridgeport Energy LLC, Emera Energy Services Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy U.S. Subsidiary No. 1, Inc., Emera Energy U.S. Subsidiary No. 2, Inc., Rumford Power Inc.,Tiverton Power LLC.

Description: Triennial Market Power Update for Northeast Region and Notice of Two Changes in Status of the Emera Entities.

Filed Date: 12/30/13.

Accession Number: 20131230-5031.

Comments Due: 5 p.m. ET 2/28/14.

Docket Numbers: ER10-2764-005.

Applicants: Vantage Wind Energy LLC.

Description: Triennial Report for Northwest Region and Notice of Change in Facts of Vantage Wind Energy LLC.

Filed Date: 12/30/13.

Accession Number: 20131230-5033.

Comments Due: 5 p.m. ET 2/28/14.

Docket Numbers: ER12-1179-015.

Applicants: Southwest Power Pool, Inc.

Description: Certification of Readiness to Implement the Integrated Marketplace by Southwest Power Pool, Inc.

Filed Date: 12/27/13.

Accession Number: 20131227-5153.

Comments Due: 5 p.m. ET 1/17/14.

Docket Numbers:ER13-136-002; ER10-2418-002; ER13-135-002; ER13-137-002; ER13-138-002; ER13-140-002; ER13-148-002; ER13-147-002; ER13-141-002; ER13-142-002; ER13-144-002; ER13-146-002; ER13-145-002.

Applicants: Georgia-Pacific Brewton LLC, GP Big Island, LLC, Brunswick Cellulose LLC, Georgia-Pacific Cedar Springs LLC, Georgia-Pacific Consumer Operations, LLC, Palatka, Georgia-Pacific Consumer Operations, LLC, Port Hudson, Georgia-Pacific Consumer Products, LP, Green Bay West, Georgia-Pacific Consumer Products, LP, Muskogee, Georgia-Pacific Consumer Products, LP, Naheola, Georgia-Pacific Consumer Products, LP, Savannah, Georgia-Pacific Monticello LLC, Georgia-Pacific Toledo LLC, Leaf River Cellulose, LLC.

Description: Notice of Non-Material Change in Status of the Georgia-Pacific Entities.

Filed Date: 12/27/13.

Accession Number: 20131227-5163.

Comments Due: 5 p.m. ET 1/17/14.

Docket Numbers:ER13-1896-004.

Applicants: AEP Generation Resources Inc.

Description: AEP Generation Resources Inc. submits AEP Gen Resources MBR Revision to be effective 3/1/2014.

Filed Date: 12/27/13.

Accession Number: 20131227-5127.

Comments Due: 5 p.m. ET 1/17/14.

Docket Numbers: ER14-594-001.

Applicants: Ohio Power Company.

Description: Ohio Power Company submits Ohio Power MBR Revision to be effective 3/1/2014.

Filed Date: 12/27/13.

Accession Number: 20131227-5126.

Comments Due: 5 p.m. ET 1/17/14.

Docket Numbers: ER14-870-000.

Applicants: Appalachian Power Company.

Description: Appalachian Power Company submits AEP Operating Companies MBR Revision to be effective 3/1/2014.

Filed Date: 12/27/13.

Accession Number: 20131227-5124.

Comments Due: 5 p.m. ET 1/17/14.

Docket Numbers: ER14-871-000.

Applicants: AEP Energy Partners, Inc.

Description: AEP Energy Partners, Inc. submits AEP Energy Partners MBR Revision to be effective 3/1/2014.

Filed Date: 12/27/13.

Accession Number: 20131227-5125.

Comments Due: 5 p.m. ET 1/17/14.

Docket Numbers: ER14-872-000.

Applicants: CSW Energy Services, Inc.

Description: CSW Energy Services, Inc. submits CSW Energy Services MBR Revision to be effective 3/1/2014.

Filed Date: 12/27/13.

Accession Number: 20131227-5128.

Comments Due: 5 p.m. ET 1/17/14.

Docket Numbers: ER14-873-000.

Applicants: Calpine New Jersey Generation, LLC.

Description: Calpine New Jersey Generation, LLC submits Notice of Succession, Reactive Rate Schedule to be effective 12/27/2013.

Filed Date: 12/27/13.

Accession Number: 20131227-5129.

Comments Due: 5 p.m. ET 1/17/14.

Docket Numbers: ER14-874-000.

Applicants: Calpine Bethlehem, LLC.

Description: Calpine Bethlehem, LLC submits Notice of Succession, Reactive Rate Schedule to be effective 12/27/2013.

Filed Date: 12/27/13.

Accession Number: 20131227-5130.

Comments Due: 5 p.m. ET 1/17/14.

Docket Numbers: ER14-875-000.

Applicants: Calpine Mid-Atlantic Generation, LLC.

Description: Calpine Mid-Atlantic Generation, LLC submits Notice of Succession, Reactive Rate Schedule to be effective 12/27/2013.

Filed Date: 12/27/13.

Accession Number: 20131227-5131.

Comments Due: 5 p.m. ET 1/17/14.

Docket Numbers: ER14-876-000.

Applicants: PJM Interconnection, L.L.C.

Description: PJM Interconnection, L.L.C. submits PJM and MISO submit revisions to the PJM-MISO JOA re IARR to be effective 2/26/2014.

Filed Date: 12/27/13.

Accession Number: 20131227-5151.

Comments Due: 5 p.m. ET 1/17/14.

Docket Numbers: ER14-877-000.

Applicants: ISO New England Inc.

Description: ISO New England Inc. submits response to Order No. 784 regarding compliance requirements.

Filed Date: 12/27/13.

Accession Number: 20131227-5162.

Comments Due: 5 p.m. ET 1/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2013.
Nathaniel J. Davis, Sr.,
Deputy Secretary.

[FR Doc. 2014-00011 Filed 1-6-14; 8:45 am]

BILLING CODE 6717-01-P